DEPARTMENT OF TRANSPORTATION

Surface Transportation Board

Release of Waybill Data

The Surface Transportation Board has received a request from Davis LLP on behalf of Imperial Oil in connection with a regulatory proceeding regarding the shipment of petroleum diluents (Diluent) in the Enbridge Southern Lights Pipeline (ESL) pending before the National Energy Board of Canada, captioned NEB File OF-Tolls-Group2-E242-TFGen 01 01 (WB11-021), for permission to use certain data from the Board's 2008 and 2009 Carload Waybill Samples. A copy of this request may be obtained from the Office of Economics.

The waybill sample contains confidential railroad and shipper data; therefore, if any parties object to these requests, they should file their objections with the Director of the Board's Office of Economics within 14 calendar days of the date of this notice. The rules for release of waybill data are codified at 49 CFR 1244.9.

Contact: Scott Decker, (202) 245-0330.

Andrea Pope-Matheson,
Clearance Clerk.

[FR Doc. 2011-5015 Filed 3-4-11; 8:45 am]

BILLING CODE 4915-01-P